DEPARTMENT OF EDUCATION

Applications for New Awards; Lead of a Career and Technical Education (CTE) Network: Research Networks Focused on Critical Problems of Education Policy and Practice Program; Correction

AGENCY: Institute of Education Sciences, Department of Education.

ACTION: Notice; correction.

SUMMARY: On August 19, 2022, we published in the Federal Register a notice inviting applications for the Lead of a Career and Technical Education (CTE) Network under the fiscal year (FY) 2023 Research Networks Focused on Critical Problems of Education Policy and Practice Grant Program (NIA), Assistance Listing Number (ALN) 84.305N. We are correcting this NIA to add “the significance of the application” to the selection criteria that peer reviewers are asked to use in evaluating applications received under this competition. We are also clarifying that the project period for the Lead is 60 months. All other information in the NIA remains the same.

DATES: This correction is applicable October 12, 2022.

FOR FURTHER INFORMATION CONTACT: Dr. Corinne Alfeld, Institute of Education Sciences, U.S. Department of Education, Potomac Center Plaza, 550 12th Street SW, Washington, DC 20202. Email: Corinne.Alfeld@ed.gov. Telephone: (202) 245-8203.

If you are deaf, hard of hearing, or have a speech disability and wish to access telecommunications relay services, please dial 7-1-1.

SUPPLEMENTARY INFORMATION:

Corrections:

In FR Doc. No. 2022-17847, appearing on page 51070 of the Federal Register of August 19, 2022, we make the following corrections:

1. On page 51070, in the third column, in the section titled II. Award Information, after the heading Project Period, remove “Up to”.

2. On page 51071, in the second column, in the second paragraph after the heading Selection Criteria, add the phrase, “the significance of the application,” before “the quality of the overall network administration and coordination plan”.

Program Authority: 20 U.S.C. 2324(c)(1); 20 U.S.C. 9501 et seq.

Accessible Format: On request to the person listed under FOR FURTHER INFORMATION CONTACT, individuals with disabilities can obtain this notice and the NIA in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2022-22072 Filed 10-11-22; 8:45 am]

BILLING CODE 4000-01-P